DEPARTMENT OF AGRICULTURE

Forest Service

Notice of Sanders County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Lolo and Kootenai National Forests' Sanders County Resource Advisory Committee will meet on February 17 at 6:30 p.m. in Thompson Falls, Montana for a business meeting. The meeting is open to the public.

DATES: February 17, 2005.

ADDRESSES: The meeting will be held at the Thompson Falls Courthouse, 1111 Main Street, Thompson Falls, MT 59873.

FOR FURTHER INFORMATION CONTACT: Randy Hojem, Designated Forest Official (DFO), District Ranger, Plains Ranger District, Lolo National Forest at (406) 826-3821.

SUPPLEMENTARY INFORMATION: Agenda topics include applying for RAC membership, receiving project proposals, reviewing project status and receiving public comment. If the meeting time or location is changed, notice will be posted in the local newspapers, including the Clark Fork Valley Press, Sanders County Ledger, Daily Interlake, Missoulian, and River Journal.

Dated: January 5, 2005.
Randy Hojem,
Designated Federal Official, District Ranger, Plains Ranger District.

[FR Doc. 05-1376 Filed 1-25-05; 8:45 am]

BILLING CODE 3410-11-M